NUCLEAR REGULATORY COMMISSION

[NRC-2015-0164]

Memorandum of Understanding Among the Department of Homeland Security, the Department of Transportation, and the Nuclear Regulatory Commission Concerning Cooperation on Radioactive Materials Transportation Security

AGENCY: Nuclear Regulatory Commission.

ACTION: Memorandum of Understanding; issuance.

SUMMARY: The United States (U.S.) Nuclear Regulatory Commission (NRC) is issuing a notice regarding a finalized Memorandum of Understanding (MOU) between the NRC, the U.S. Department of Homeland Security (DHS) and the U.S. Department of Transportation (DOT) that defines a cooperative working relationship between the agencies for radioactive material transportation security. The goal of the MOU is to ensure that the transportation of radioactive material in the U.S. and across U.S. borders is carried out in a secure manner that protects public health and safety, and in a manner that is not inimical to the common defense and security of the U.S.

DATES: The Memorandum of Understanding is available July 14, 2015.

ADDRESSES: Please refer to Docket ID NRC-2015-0164 when contacting the NRC about the availability of information regarding this document. You may obtain publicly-available information related to this document using any of the following methods:

• Federal Rulemaking Web site: Go to http://www.regulations.gov and search for Docket ID NRC-2015-0164. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The three sections of the MOU are available in ADAMS under Accession Nos.: ML15057A336, ML13240A347, and ML13240A350, respectively.

• NRC's PDR: You may examine and purchase copies of public documents at the NRC's PDR, Room O1-F21, One White Flint North, 11555 Rockville Pike, Rockville, Maryland 20852.

FOR FURTHER INFORMATION CONTACT: Albert Tardiff, Office of Nuclear Security and Incident Response, U.S. Nuclear Regulatory Commission, Washington, DC 20555-0001; telephone: 301-287-3613, email: Al.Tardiff@nrc.gov.

SUPPLEMENTARY INFORMATION:

I. Introduction

The NRC, DHS, and DOT have finalized an MOU to define the cooperative working relationship between the agencies for radioactive material transportation security.

II. Summary

The Energy Policy Act of 2005 (Pub. L. 109-58, August 8, 2005) established the Task Force on Radiation Source Protection and Security. Subsequently, the Task Force recommended that the participating departments and agencies develop an interagency MOU for radioactive material transportation security. The MOU establishes a framework for departments and agencies to coordinate, to the maximum extent practicable, their respective responsibilities and activities on security of radioactive material transportation within the U.S. or across U.S. borders. The intent of the MOU is to enhance collaborative exchanges, facilitate the sharing of expertise and information, promote leveraging of mutual interests, and reduce duplication in shared areas of responsibility.

III. Further Information

The Task Force on Radiation Source Protection and Security has produced three reports. The reports were published in 2006, 2010 and 2014. Those reports may be found in the NRC ADAMS public document collection at accession numbers ML062190349, ML102230141 and ML14219A642, for the 2006, 2010 and 2014 reports, respectively.

Dated at Rockville, Maryland, this 7th day of July 2015.
For the Nuclear Regulatory Commission.
Mark Thaggard,
Deputy Director, Division of Security Policy, Office of Nuclear Security and Incident Response.

[FR Doc. 2015-17274 Filed 7-13-15; 8:45 am]

BILLING CODE 7590-01-P